DEPARTMENT OF DEFENSE

Department of the Army, Corps of Engineers

Intent To Prepare a Draft Supplemental Environmental Impact Statement (SEIS) for the American River Project, Long Term Evaluation, California

AGENCY: U.S. Army Corps of Engineers, DoD.

ACTION: Notice of intent.

SUMMARY: The U.S. Army Corps of Engineers (Corps), lead agency under the National Environmental Policy Act, and the California State Reclamation Board (The Board), lead agency under the California Environmental Quality Act, intend to prepare a joint document to evaluate the environmental effects of proposed flood control and ecosystem restoration components for the Sacramento, California, area.

FOR FURTHER INFORMATION CONTACT: Questions concerning the proposed action and draft SEIS should be addressed to Ms. Patricia Roberson, Environmental Resources Branch, Planning Division, U.S. Army Corps of Engineers, 1325 J Street, Sacramento, California 95814-2922, telephone (916) 557-6705.

SUPPLEMENTARY INFORMATION:

1. Project Location

Sacramento is located where the American River joins the Sacramento River. The American River watershed, or drainage basin, covers approximately 2,100 square miles northeast of Sacramento and includes portions of Placer, El Dorado, and Sacramento Counties. Runoff from this basin flows through Folsom Reservoir and passes through Sacramento in a channel controlled by a system of levees. In addition to providing flood control to Sacramento, Folsom Dam and Reservoir are part of the Federal Central Valley Project, California's largest water delivery system. The primary study areas include Folsom Dam and Reservoir, lower American River, Sacramento Bypass, and the Yolo Bypass. These features are located within Sacramento, Yolo, Placer, and El Dorado Counties.

2. Proposed Action and Alternatives

The Corps and the Board are conducting a supplemental feasibility evaluation of alternative measures to provide additional flood protection to the City of Sacramento. This documentation and the accompanying SEIS/EIR are supplements to the 1996 American River Watershed Project Supplemental Information Report and SEIS/EIR, which in turn supplement the 1991 American River Watershed Investigation feasibility study and EIS. Alternatives to address resource problems and needs identified to date will include in whole or in part: (1) Enlarging Folsom Reservoir; (2) a downstream levee plan, which would involve raising and strengthening levees, raising bridges, and widening the Sacramento Bypass, and (3) a combination of downstream levee work and Folsom enlargement. Potential for ecosystem restoration will also be evaluated.

3. Scoping Process

a. Scoping is a process to identify the actions, alternatives, and effects to be evaluated in an environmental document. The public is invited to assist the Corps and non-Federal sponsor in scoping this SEIS. The Process provides an opportunity for the public to identify Significant resources in the study area that may be affected by the project. To facilitate this involvement, a series of public scoping meetings will be held in Folsom and Sacramento in August/September 2000. Individuals, organizations, and agencies are also encouraged to submit written scoping comments by September 30, 2000.

b. After the draft SEIS is prepared, it will be circulated to all interested parties for review and comment. Public meetings will be held to receive verbal and written comments. All comments will be considered and responded to in the final SEIS/EIR.

4. Availability

The draft SEIS/EIR is scheduled to be distributed for public review and comment in June 2001.

Gregory D. Showalter,
Army Federal Register Liaison Officer.

[FR Doc. 00-19800 Filed 8-3-00; 8:45 am]

BILLING CODE 3710-EZ-P